DEPARTMENT OF LABOR

Occupational Safety and Health Administration

29 CFR Part 1926

[Docket No. S-018]

RIN No. 1218-AB88

Safety Standards for Signs, Signals, and Barricades

AGENCY: Occupational Safety and Health Administration, Department of Labor.

ACTION: Withdrawal of direct final rule.

SUMMARY: Due to significant adverse comments, OSHA is withdrawing the direct final rule for Signs, Signals, and Barricades that was published on April 15, 2002. In the document, OSHA stated that if it received significant adverse comments, the agency would “publish a notice of significant adverse comment in the Federal Register withdrawing this direct final rule * * *” Two of the eight comments received will, in this instance, be treated as significant adverse comments. OSHA published a companion proposed rule identical to the direct final rule on the same day. [67 FR 18145]. The agency will address comments on the direct final and proposed rules in a new final rule. OSHA will not institute a second comment period.

DATES: The direct final rule for Signs, Signals, and Barricades published on April 15, 2002 [67 FR 18091] is withdrawn as of July 15, 2002.

FOR FURTHER INFORMATION CONTACT: Nancy Ford, Office of Construction Standards and Construction Services, Occupational Safety and Health Administration, U.S. Department of Labor, Room N-3468, 200 Constitution Avenue, NW., Washington, DC 20210; telephone: (202) 693-2345.

Authority: This document was prepared under the direction of John Henshaw, Assistant Secretary of Labor for Occupational Safety and Health, 200 Constitution Avenue, NW., Washington, DC 20210.

This action is taken pursuant to sections 4, 6, and 8 of the Occupational Safety and Health Act of 1970 (29 U.S.C. 653, 655, 657), section 4 of the Administrative Procedure Act (5 U.S.C. 553), Section 107 of the Contract Work Hours and Safety Standards Act (Construction Safety Act), 40 U.S.C. 333, Secretary of Labor's Order No. 3-2000 (65 FR 50017), and 29 CFR Part 1911.

Signed at Washington, DC, this 11th day of July, 2002.
John Henshaw,
Assistant Secretary of Labor.

[FR Doc. 02-17851 Filed 7-12-02; 8:45 am]

BILLING CODE 4510-26-P